COMMISSION ON CIVIL RIGHTS

Notice of Public Meeting of the South Carolina Advisory Committee; Cancellation

AGENCY: Commission on Civil Rights.

ACTION: Notice; cancellation of meeting.

SUMMARY: The Commission on Civil Rights published a notice in the Federal Register concerning a meeting of the South Carolina Advisory Committee. The meeting scheduled for Wednesday, December 16, 2020 at 12:00 p.m. (EST) is cancelled. The notice is in the Federal Register of Tuesday, December 1, 2020, in FR Doc. 2020-26428, on page 77145.

FOR FURTHER INFORMATION CONTACT: Barbara Delaviez, (202) 618-4158, bdelaviez@usccr.gov.

Dated: December 14, 2020.
David Mussatt,
Supervisory Chief, Regional Programs Unit.

[FR Doc. 2020-27864 Filed 12-17-20; 8:45 am]

BILLING CODE P